DEPARTMENT OF HEALTH AND HUMAN SERVICES

Office of the National Coordinator for Health Information Technology; Federal Health IT Strategic Plan: 2015-2020 Open Comment Period

AGENCY: ONC, HHS.

ACTION: Notice.

Authority: Section 3001(c)(3) of the Public Health Service Act.

SUMMARY: Section 3001(c)(3) of the Public Health Service Act, as added by the Health Information Technology for Economic and Clinical Health (HITECH) Act, requires the National Coordinator for Health Information Technology (ONC) to update the Federal Health IT Strategic Plan (developed June 3, 2008; last updated on September 15, 2011) in consultation with other appropriate federal agencies and in collaboration with private and public entities. The Plan was developed in collaboration across multiple federal agencies, and ONC will seek input on the draft Plan from the private sector through the Health IT Policy Committee. This notice serves to announce that the public comment period for the Federal Health IT Strategic Plan is open through Tuesday, February 6 at 5:00 p.m. (Eastern). ONC welcomes and encourages all comments from the public regarding the Plan.

In order for your comments to be read and considered, you must submit your comment via http://www.healthit.gov/policy-researchers-implementers/strategic-plan-public-comments.

FOR FURTHER INFORMATION CONTACT: Matthew Swain, Program Analyst in the Office of Planning, Evaluation, and Analysis, matthew.swain@hhs.gov, 202.205.3754.

Dated: December 4, 2014.
Matthew Swain,
Program Analyst, Office of Planning, Evaluation, and Analysis, Office of the National Coordinator for Health Information Technology (ONC), Office of the Secretary (OS).

[FR Doc. 2014-28855 Filed 12-9-14; 8:45 am]

BILLING CODE 4150-45-P